DEPARTMENT OF AGRICULTURE

Forest Service

Proposed New Recreation Fee Sites

AGENCY: Forest Service, (Agriculture) USDA.

ACTION: Notice.

SUMMARY: The Tongass National Forest is proposing to establish several new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new recreation fee sites would be established no earlier than six months following the publication of this notice in the Federal Register.

ADDRESSES: Tongass National Forest, Attention: Recreation Fees, 648 Mission Street, Suite 110, Federal Building, Ketchikan, AK 99901-6591.

FOR FURTHER INFORMATION CONTACT: John Suomala, Recreation and Wilderness Program Manager, (907) 228-6232, john.p.suomala@usda.gov.

SUPPLEMENTARY INFORMATION: The Federal Lands Recreation Enhancement Act (16 U.S.C. 6803(b)) directs the Secretary of Agriculture to publish a six-month advance notice in the Federal Register of establishment of new recreation fee sites. In accordance with Forest Service Handbook 2309.13, Chapter 30, the Forest Service will publish the proposed new recreation fee sites in local newspapers and other local publications for public comment. Most of the new recreation fee revenues would be spent where they are collected to enhance the visitor experience at the new recreation fee sites.

An expanded amenity recreation fee of $12 per night would be charged for the Sawmill Creek Campground. An expanded amenity recreation fee of $30 per hour for groups up to 74 people would be charged for the Eagle Shelter, King Salmon Shelter, and Coho Shelter group picnic sites; and an expanded amenity recreation fee of $20 per night for groups up to 20 people would be charged for the Sawmill Creek Group Campground. In addition, an expanded amenity recreation fee of $25 per day for groups up to 30 people would be charged for the Sawmill Creek Group Picnic Shelter. An expanded amenity recreation fee of $35 per night would be charged for rental of Deer Mountain Shelter Cabin, and an expanded amenity recreation fee of $75 per night would be charged for rental of Signal Creek Cabin. A new season pass costing $80 per person would be offered for Fish Creek Wildlife Observation Site.

Expenditures from recreation fee revenues collected at the new recreation fee sites would enhance recreation opportunities, improve customer service, and address maintenance needs. Reservations for the campgrounds and cabins at the new recreation fee sites could be made online at www.recreation.gov or by calling 877-444-6777. Reservations would cost $8.00 per reservation.

Dated: October 2, 2023.
Jacqueline Emanuel,
Associate Deputy Chief, National Forest System.

[FR Doc. 2023-22301 Filed 10-5-23; 8:45 am]

BILLING CODE 3411-15-P